DELAWARE RIVER BASIN COMMISSION

Notice of Commission Meeting and Public Hearing

Notice is hereby given that the Delaware River Basin Commission will hold an informal conference followed by a public hearing on Wednesday, December 5, 2012. The hearing will be part of the Commission's regularly scheduled business meeting. The conference session and business meeting both are open to the public and will be held at the Commission's office building located at 25 State Police Drive, West Trenton, New Jersey.

The morning conference session will begin at 11:00 a.m. and will include (a) a report by staff on the Commission's Information Technology (IT) Upgrade and Water Charging Program On-Line Reporting System; and (b) an update by a representative of the U.S. Army Corps of Engineers Philadelphia District on development of a Delaware Estuary Regional Sediment Management Plan.

Items for Public Hearing. The subjects of the public hearing to be held during the 1:30 p.m. business meeting on December 5, 2012 include draft dockets for which the names and brief descriptions will be posted on the Commission's Web site at www.drbc.net at least ten days prior to the meeting date. Complete draft dockets will be posted on the Web site ten days prior to the meeting date. Additional public records relating to the dockets may be examined at the Commission's offices. Please contact William Muszynski at 609-883-9500, extension 221, with any docket-related questions.

Other Agenda Items. In addition to the public hearing on draft dockets, the 1:30 p.m. business meeting will include public hearings on: (a) A resolution authorizing the Executive Director to engage an expert panel to advise the Water Quality Advisory Committee (WQAC) and the Commission on the development and use of a Delaware Estuary Eutrophication Model; (b) a resolution authorizing the Executive Director to award a professional contract for consulting services in connection with the Commission's Water Charging Program and Water Supply Storage Facilities Fund; and (c) a resolution authorizing the Executive Director to award a construction contract to the lowest responsible bidder for DRBC courtyard modifications associated with the Ruth Patrick River Garden and to amend the authorized amount of the Commission's contract with T&M Associates to include compensation for final design, preparation of bid documents and construction management. The Commissioners also may consider a Resolution to approve Docket D-1969-201 CP-13 for the Exelon Limerick Generating Station (“LGS draft docket”). A hearing on the LGS draft docket was conducted on August 28, 2012 and written comments were accepted through October 27, 2012. No additional testimony on this project will be accepted on December 5. In the event that the Commissioners are not yet prepared to consider the LGS draft docket during their meeting on December 5, they will consider a resolution to extend Docket D-1969-201 CP Final (Revision 12) for the LGS through December 31, 2013 or until the Commission approves the LGS draft docket, whichever occurs sooner. The business meeting agenda also will include the following standard items: adoption of the Minutes of the Commission's September 12, 2012 business meeting, announcements of upcoming meetings and events, a report on hydrologic conditions, reports by the Executive Director and the Commission's General Counsel, and a public dialogue session.

Opportunities to Comment. Individuals who wish to comment for the record on a hearing item or to address the Commissioners informally during the public dialogue portion of the meeting are asked to sign up in advance by contacting Ms. Paula Schmitt of the Commission staff, at paula.schmitt@drbc.state.nj.us or by phoning Ms. Schmitt at 609-883-9500 ext. 224. Written comment on items scheduled for hearing may be submitted in advance of the meeting date to: Commission Secretary, P.O. Box 7360, 25 State Police Drive, West Trenton, NJ 08628; by fax to Commission Secretary, DRBC at 609-883-9522 or by email to paula.schmitt@drbc.state.nj.us. Written comment on dockets should also be furnished directly to the Project Review Section at the above address or fax number or by email to william.muszynski@drbc.state.nj.us.

Individuals in need of an accommodation as provided for in the Americans with Disabilities Act who wish to attend the informational meeting, conference session or hearings should contact the Commission Secretary directly at 609-883-9500 ext. 203 or through the Telecommunications Relay Services (TRS) at 711, to discuss how we can accommodate your needs.

Agenda Updates. Note that meeting items are subject to change and items scheduled for hearing are occasionally postponed to allow more time for the Commission to consider them. Please check the Commission's Web site, www.drbc.net, closer to the meeting date for changes that may be made after the deadline for filing this notice.

Dated: November 13, 2012.
Pamela M. Bush,
Commission Secretary.

[FR Doc. 2012-28150 Filed 11-19-12; 8:45 am]

BILLING CODE 6360-01-P